ENVIRONMENTAL PROTECTION AGENCY

[FRL-6904-1]

Proposed CERCLA Administrative Cashout Settlement; Energynorth Natural Gas, Inc., and Public Service of New Hampshire, Nashua River Asbestos Site, Nashua, NH

AGENCY: Environmental Protection Agency.

ACTION: Notice of proposed settlement; request for public comment.

SUMMARY: In accordance with section 122(i) of the Comprehensive Environmental Response, Compensation, and Liability Act, as amended (“CERCLA”), 42 U.S.C. 9622(i), notice is hereby given of a proposed administrative settlement for recovery of past and projected future response costs concerning the Nashua River Asbestos Site in Nashua, New Hampshire with the following settling parties: EnergyNorth Natural Gas, Inc., and Public Service of New Hampshire. The settlement requires the settling party to pay $787,341.76 to the Hazardous Substance Superfund plus an additional sum for interest on that amount calculated from December 31, 1999 through the date of payment. The settlement includes a covenant not to sue the settling party pursuant to Sections 106 and 107(a) of CERCLA,” 42 U.S.C. 9606 and 9607(a).

For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023.

DATES: Comments must be submitted on or before December 18, 2000.

ADDRESSES: Comments should be addressed to the Regional Hearing Clerk, U.S. Environmental Protection Agency, Region I, One Congress Street, Suite 1100, Mailcode RAA, Boston, Massachusetts 02203 and should refer to: In re: Nashua River Asbestos Site, U.S. EPA Docket No. I-99-0044.

FOR FURTHER INFORMATION CONTACT: A copy of the proposed settlement may be obtained from Steven Schlang, U.S. Environmental Protection Agency, Region I, Office of Environmental Stewardship, One Congress Street, Suite 1100, Mailcode SES, Boston, MA 02114-2023.

Dated: September 29, 2000.
Richard Cavagnero,
Acting Director, Office of Site Remediation & Restoration.

[FR Doc. 00-29509 Filed 11-16-00; 8:45 am]

BILLING CODE 6560-50-P